DEPARTMENT OF COMMERCE

Submission For OMB Review; Comment Request

DOC has submitted to the Office of Management and Budget (OMB) for clearance the following proposal for collection of information under the provisions of the Paperwork Reduction Act (44 U.S.C. Chapter 35).

Agency: Bureau of Economic Analysis (BEA), Commerce.

Title: Direct Transactions of U.S. Reporter with Foreign Affiliate.

Form Number(s): BE-577.

Agency Approval Number: 0608-0004.

Type of Request: Extension of a currently approved collection without any change in the substance or in the method of collection.

Burden: 67,500 hours.

Number of Respondents: 13,500 respondents, 4 responses each per year.

Avg Hours Per Response: 1¼ hours.

Needs and Uses: The survey obtains quarterly sample data on transactions and positions between U.S.-owned foreign business enterprises and their U.S. parent companies. The survey is a cut-off sample survey that covers all foreign affiliates above a size-exemption level. The sample data are used to derive universe estimates in nonbenchmark years by extrapolating forward similar data reported in the BE-10, Benchmark Survey of U.S. Direct Investment Abroad, which is taken every five years. The data are used in the preparation of the U.S. international transactions accounts, the input-output accounts, the national income and product accounts, and the international investment position of the United States. The data are needed to measure the size and economic significance of direct investment abroad, measure changes in such investment, and assess its impact on the U.S. and foreign economies.

The data from the survey are primarily intended as general purpose statistics. They should be readily available to answer any number of research and policy questions related to U.S. direct investment abroad. In addition, the data are needed by Government agencies that are responsible for the conduct of U.S. international economic policy. Such policy must be based on an informed analysis of current information on the transactions of U.S. parent companies and their foreign affiliates. The data are particularly valuable to these agencies because they are collected, analyzed, and published within 65 days after the end of each calendar quarter, allowing data users to see the consequences of changes in economic conditions very soon after they occur.

Affected Public: Businesses or other for-profit institutions.

Frequency: Quarterly.

Respondent's Obligation: Mandatory.

Legal Authority: Title 22 U.S.C., sections 3101-3108, as amended.

OMB Desk Officer: Paul Bugg, (202) 395-3093.

You may obtain copies of the above information collection proposal by calling or writing Diana Hynek, Departmental Paperwork Clearance Officer, Office of the Chief Information Officer, Department of Commerce, Room 6625, 14th Street and Constitution Avenue, NW., Washington, DC 20230, or via the Internet at dHynek@doc.gov, ((202) 482-0266).

Send comments on the proposed information collection within 30 days of publication of this notice to Paul Bugg, OMB Desk Officer, via the Internet at pbugg@omb.eop.gov or by fax at (202) 395-7245.

Dated: August 6, 2003.
Madeleine Clayton,
Management Analyst, Office of the Chief Information Officer.

[FR Doc. 03-20495 Filed 8-11-03; 8:45 am]

BILLING CODE 3510-06-P